DEPARTMENT OF THE INTERIOR

Bureau of Land Management

[LLOR912000. L07772100. XZ0000. 22x.HAG22-0020]

Call for Nominations for the Southeast Oregon and John Day-Snake Resource Advisory Councils and the Steens Mountain Advisory Council

AGENCY: Bureau of Land Management, Interior.

ACTION: Notice of call for nominations.

SUMMARY: The purpose of this notice is to request public nominations for the Bureau of Land Management's (BLM) Southeast Oregon and John Day-Snake Resource Advisory Councils (RACs) and the Steens Mountain Advisory Council to fill existing vacancies, as well as member terms that are scheduled to expire. The Councils provide advice and recommendations to the BLM on land use planning and management of the National System of Public Lands within their geographic areas.

DATES: All nominations must be received no later than August 17, 2022.

ADDRESSES: Nominations and completed applications should be sent to the BLM Oregon District Offices listed in the SUPPLEMENTARY INFORMATION section of this notice.

FOR FURTHER INFORMATION CONTACT: Morgan Rubanow, Public Affairs Specialist, BLM Oregon State Office, telephone: (503) 545-9717, email: mrubanow@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, council membership must be balanced and representative of the various interests concerned with the management of the public lands. The rules governing the advisory councils are found at 43 CFR subpart 1784.

Individuals may nominate themselves or others for appointment by the Secretary. The BLM will evaluate nominees based on their education, training, experience, and knowledge of the geographic area of the advisory committee. Nominees should demonstrate a commitment to collaborative resource decision-making. Simultaneous with this notice, the BLM Oregon State Office will issue a press release providing additional information for submitting nominations.

The Southeast Oregon and John Day-Snake RACs include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian tribes within or adjacent to the area for which the RAC is organized; are employed as academicians in natural resource management or the natural sciences; or represent the affected public-at-large.

The Steens Mountain Advisory Council consists of 13 members that include a private landowner in the Steens Mountain Cooperative Management and Protection Area (CMPA); two representatives who are grazing permittees on Federal lands in the CMPA; a representative interested in fish and recreational fishing in the CMPA; a representative of the Burns Paiute Tribe; two representatives who are recognized environmental representatives, one of whom shall represent the State as a whole, and one of whom is from the local area; a representative who participates in dispersed recreation, such as hiking, camping, nature viewing, nature photography, bird watching, horseback riding, or trail walking; a representative who is a recreational permit holder or is a representative of a commercial recreation operation in the CMPA; a representative who participates in mechanized or consumptive recreation, such as hunting, fishing, off-road driving, hang gliding, or parasailing; a representative with expertise and interest in wild horse management on Steens Mountain; a representative who has no financial interest in the CMPA to represent statewide interests; and one non-voting representative to serve as the State government liaison to the Council. As appropriate, certain Council members may be appointed as special Government employees (SGEs). Please be aware that applicants selected to serve as SGEs will be required, prior to appointment, to file a Confidential Financial Disclosure Report in order to avoid involvement in real or apparent conflicts of interest. You may find a copy of the Confidential Financial Disclosure Report at the following Web site: https://www.doi.gov/ethics/oge-form-450. Additionally, after appointment, members appointed as SGEs will be required to meet applicable financial disclosure and ethics training requirements. Please contact (202) 202-208-7960 or DOI_Ethics@sol.doi.gov with any questions about the ethics requirements for members appointed as SGEs.

Individuals may nominate themselves or others. Nominees must be residents of the State of Oregon. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/1120-019_0.pdf.

—Letters of reference from represented interests or organizations; and

—Any other information that addresses the nominee's qualifications.

Nominations and completed applications should be sent to the office listed as follows:

Southeast Oregon RAC

Larisa Bogardus, Public Affairs Officer, BLM Vale District Office, 3100 H St., Baker City, OR 97814; phone: (541) 523-1407; email: lbogardus@blm.gov.

John Day-Snake RAC

Kaitlyn Webb, Public Affairs Officer, BLM Prineville District Office, 3050 NE 3rd Street, Prineville, OR 97754; phone: (541) 460-8781; email: kwebb@blm.gov.

Steens Mountain Advisory Council

Tara Thissell, Public Affairs Specialist, BLM Burns District Office, 28910 Hwy. 20 West, Hines, OR 97738; phone: (541) 573-4519; email: tthissell@blm.gov.

(Authority: 43 CFR 1784.4-1)

Donald Manuszewski,
Deputy State Director, Communications.

[FR Doc. 2022-15212 Filed 7-15-22; 8:45 am]

BILLING CODE 4310-33-P